DEPARTMENT OF ENERGY

Federal Energy Regulatory Commission

Combined Notice of Filings #1

March 23, 2010.

Take notice that the Commission received the following electric corporate filings:

Docket Numbers: EC10-53-000.

Applicants: Sharyland Utilities, L.P.

Description: Sharyland Utilities, L.P., Joint Application for Approval of the Disposition of Jurisdictional Facilities Under Section 203 of the Federal Power Act.

Filed Date: 03/18/2010.

Accession Number: 20100318-5078.

Comment Date: 5 p.m. Eastern Time on Thursday, April 8, 2010.

Docket Numbers: EC10-54-000.

Applicants: Larswind, LLC.

Description: Application for Authorization for Disposition of Jurisdictional Facilities and Request for Expedited Action of Larswind, LLC.

Filed Date: 03/22/2010.

Accession Number: 20100322-5110

Comment Date: 5 p.m. Eastern Time on Monday, April 12, 2010.

Take notice that the Commission received the following electric rate filings:

Docket Numbers: ER02-2551-005.

Applicants: Cargill Power Markets, LLC.

Description: Cargill Power Markets, LLC submits additional information re their 1/29/10 notification of change in status filing and a substitute page of their market-based rate wholesale power sales tariff.

Filed Date: 03/19/2010.

Accession Number: 20100322-0001.

Comment Date: 5 p.m. Eastern Time on Friday, April 9, 2010.

Docket Numbers: ER09-1063-003.

Applicants: PJM Interconnection, LLC.

Description: PJM Interconnection, LLC submits Sixth Revised Sheet No. 571 et al to its Open Access Transmission Tariff etc.

Filed Date: 03/18/2010.

Accession Number: 20100319-0214.

Comment Date: 5 p.m. Eastern Time on Thursday, April 8, 2010.

Docket Numbers: ER10-572-001.

Applicants: California Independent System Operator Corporation.

Description: California Independent System Operator Corporation submits Study Service Agreement, Service Agreement No. 1432 with San Diego Gas & Electric Company.

Filed Date: 03/18/2010.

Accession Number: 20100319-0207.

Comment Date: 5 p.m. Eastern Time on Thursday, April 8, 2010.

Docket Numbers: ER10-668-001.

Applicants: Medicine Bow Power Partners, LLC.

Description: Medicine Bow Power Partners, LLC submits a Notice of Cancellation of its market-based rate tariff, effective as of 1/29/2010.

Filed Date: 03/18/2010.

Accession Number: 20100319-0208.

Comment Date: 5 p.m. Eastern Time on Thursday, April 8, 2010.

Docket Numbers: ER10-712-001.

Applicants: AES ES WESTOVER, LLC.

Description: AES ES Westover, LLC submits explanation that they should be designated as a Category 1 Seller in the Northwest Regions et al, as indicated in the Tariff submitted with its Application etc.

Filed Date: 03/18/2010.

Accession Number: 20100319-0209.

Comment Date: 5 p.m. Eastern Time on Thursday, April 8, 2010.

Docket Numbers: ER10-769-001.

Applicants: Glenwood Energy Partners, LTD.

Description: Glenwood Energy Partners, LTD submits Amended Petition for Acceptance of Initial Rate Schedule, Waivers and Blanket Authority.

Filed Date: 03/15/2010.

Accession Number: 20100315-0155.

Comment Date: 5 p.m. Eastern Time on Monday, April 5, 2010.

Docket Numbers: ER10-895-001.

Applicants: The Detroit Edison Company.

Description: The Detroit Edison Company submits supplement to the Notice of Cancellation and Second Revised Service Agreement 12 to FERC Electric Tariff, Original Volume 1 to be effective 5/15/10.

Filed Date: 03/22/2010.

Accession Number: 20100322-0207.

Comment Date: 5 p.m. Eastern Time on Monday, April 12, 2010.

Docket Numbers: ER10-907-000.

Applicants: PJM Interconnection, LLC.

Description: PJM Interconnection, LLC submits amendments to Schedule 12 Appendix of the PJM Tariff to incorporate cost responsibility assignments for 110 baseline upgrades etc.

Filed Date: 03/18/2010.

Accession Number: 20100319-0203.

Comment Date: 5 p.m. Eastern Time on Monday, April 19, 2010.

Docket Numbers: ER10-915-000.

Applicants: CPN Pryor Funding Corporation.

Description: CPN Pryor Funding Corporation submits notice of cancellation of its market-based rate tariff.

Filed Date: 03/19/2010.

Accession Number: 20100322-0202.

Comment Date: 5 p.m. Eastern Time on Friday, April 9, 2010.

Docket Numbers: ER10-916-000.

Applicants: Westar Energy, Inc.

Description: Westar Energy, Inc submits an executed Cost-Based Agreement for Wholesale Power Sales Service from Generating Assets Likely to Participate etc.

Filed Date: 03/22/2010.

Accession Number: 20100322-0210.

Comment Date: 5 p.m. Eastern Time on Monday, April 12, 2010.

Docket Numbers: ER10-917-000.

Applicants: PJM Interconnection, LLC.

Description: PJM Interconnection, LLC submits an executed interim interconnection service agreement et al with P.H. Glatfelter Company et al.

Filed Date: 03/22/2010.

Accession Number: 20100322-0209.

Comment Date: 5 p.m. Eastern Time on Monday, April 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-7007 Filed 3-29-10; 8:45 a.m.]

BILLING CODE 6717-01-P